DEPARTMENT OF COMMERCE

International Trade Administration

[C-570-039]

Certain Amorphous Silica Fabric From the People's Republic of China: Rescission of Countervailing Duty Administrative Review; 2019

AGENCY: Enforcement and Compliance, International Trade Administration, Department of Commerce.

SUMMARY: The Department of Commerce (Commerce) is rescinding the administrative review of the countervailing duty (CVD) order on certain amorphous silica fabric (silica fabric) from the People's Republic of China (China) for the period January 1, 2019, through December 31, 2019, based on the timely withdrawal of the request for review.

DATES: Applicable August 11, 2020.

FOR FURTHER INFORMATION CONTACT: Natasia Harrison, AD/CVD Operations, Office VI, Enforcement and Compliance, International Trade Administration, U.S. Department of Commerce, 1401 Constitution Avenue NW, Washington, DC 20230; telephone: (202) 482-1240.

SUPPLEMENTARY INFORMATION:

Background

On March 2, 2020, Commerce published a notice of opportunity to request an administrative review of the CVD order on silica fabric from China for the period January 1, 2019, through December 31, 2019.¹ On March 31, 2020, Commerce received a timely request, in accordance with section 751(a) of the Tariff Act of 1930, as amended (the Act), from Auburn Manufacturing, Inc. (the petitioner), to conduct an administrative review of this CVD order with respect to 89 companies.² Based upon this request, on May 6, 2020, in accordance with section 751(a) of the Act, Commerce published in the Federal Register a notice of initiation of administrative review for this CVD order.³ On July 7, 2020, the petitioner timely withdrew its request for an administrative review for all of the 89 companies.⁴

¹ See Antidumping or Countervailing Duty Order, Finding, or Suspended Investigation; Opportunity to Request Administrative Review, 85 FR 12267 (March 2, 2020).

² See Petitioner's Letter, “Certain Amorphous Silica Fabric from the People's Republic of China,” dated March 31, 2020.

³ See Initiation of Antidumping and Countervailing Duty Administrative Reviews, 85 FR 26931 (May 6, 2020) (Initiation Notice).

⁴ See Petitioner's Letter, “Amorphous Silica Fabric from the People's Republic of China,” dated July 7, 2020.

Rescission of Review

Pursuant to 19 CFR 351.213(d)(1), the Secretary will rescind an administrative review, in whole or in part, if a party who requested the review withdraws the request within 90 days of the date of publication of the notice of initiation of the requested review. The petitioner, the only party that requested administrative reviews, withdrew its requests for review for all companies within the applicable deadline. Accordingly, we are rescinding in its entirety the administrative review of the CVD order on silica fabric from China covering the period January 1, 2019, to December 31, 2019, in its entirety.

Assessment

Commerce will instruct U.S. Customs and Border Protection (CBP) to assess CVDs on all appropriate entries at a rate equal to the cash deposit of estimated CVDs required at the time of entry, or withdrawal from warehouse, for consumption, during the period January 1, 2019, to December 31, 2019, in accordance with 19 CFR 351.212(c)(1)(i). Commerce intends to issue appropriate assessment instructions directly to CBP 15 days after publication of this notice in the Federal Register.

Notification to Importers

This notice serves as the only reminder to importers of their responsibility under 19 CFR 351.402(f)(2) to file a certificate regarding the reimbursement of CVDs prior to liquidation of the relevant entries during this review period. Failure to comply with this requirement could result in the presumption that reimbursement of the CVDs occurred and the subsequent assessment of doubled CVDs.

Notification Regarding Administrative Protective Order

This notice also serves as the only reminder to parties subject to administrative protective order (APO) of their responsibility concerning the return or destruction of proprietary information disclosed under an APO in accordance with 19 CFR 351.305(a)(3). Timely written notification of the return/destruction of APO materials or conversion to judicial protective order is hereby requested. Failure to comply with the regulations and terms of an APO is a violation which is subject to sanction.

This notice is issued and published in accordance with sections 751 of the Act and 19 CFR 351.213(d)(4).

Dated: August 5, 2020.
James Maeder,
Deputy Assistant Secretary for Antidumping and Countervailing Duty Operations.

[FR Doc. 2020-17471 Filed 8-10-20; 8:45 am]

BILLING CODE 3510-DS-P